DEPARTMENT OF THE INTERIOR

Fish and Wildlife Service

50 CFR Part 17

[Docket No. FWS-R2-ES-2010-004; 4500030113]

RIN 1018-AV97

Endangered and Threatened Wildlife and Plants; Proposed Endangered Status for the Dunes Sagebrush Lizard

AGENCY: Fish and Wildlife Service, Interior.

ACTION: Proposed rule; notice of availability and reopening of comment period.

SUMMARY: We, the U.S. Fish and Wildlife Service (Service), announce the reopening of the public comment period on our December 14, 2010, proposed endangered status for the dunes sagebrush lizard (Sceloporus arenicolus) under the Endangered Species Act of 1973, as amended. We also announce the availability of a signed conservation agreement for the dunes sagebrush lizard in Texas. We are reopening the comment period to allow all interested parties an opportunity to comment simultaneously on the proposed rule, the new conservation agreement, and a previously completed conservation agreement for the dunes sagebrush lizard in New Mexico. Comments previously submitted need not be resubmitted, as they will be fully considered in preparation of the final rule.

DATES: The comment period end date is March 12, 2012. We request that comments be submitted by 11:59 p.m. Eastern Time on the closing date.

ADDRESSES: Document availability: You may obtain copies of the proposed rule, the “Texas Conservation Plan for Dunes Sagebrush Lizard (Sceloporus arenicolus)”, and the “Candidate Conservation Agreement for the Lesser Prairie-Chicken (Tympanuchus pallidicinctus) and Sand Dune Lizard (Sceloporus arenicolus) in New Mexico” on the Internet at http://www.regulations.gov at Docket Number FWS-R2-ES-2010-0041, or by mail from the New Mexico Ecological Services Field Office (see FOR FURTHER INFORMATION CONTACT).

Comment submission: You may submit written comments by one of the following methods:

(1) Electronically: Go to the Federal eRulemaking Portal: http://www.regulations.gov. Search for Docket No. FWS-R2-ES-2010-0041, which is the docket number for this rulemaking.

(2) By hard copy: Submit by U.S. mail or hand-delivery to: Public Comments Processing, Attn: FWS-R2-ES-2010-0041; Division of Policy and Directives Management; U.S. Fish and Wildlife Service; 4401 N. Fairfax Drive, MS 2042-PDM; Arlington, VA 22203.

We request that you send comments only by the methods described above. We will post all comments on http://www.regulations.gov. This generally means that we will post any personal information you provide us (see the Public Comments section below for more information).

FOR FURTHER INFORMATION CONTACT: Wally Murphy, Field Supervisor, U.S. Fish and Wildlife Service, New Mexico Ecological Services Office, 2105 Osuna NE., Albuquerque, NM 87113; telephone (505-761-4781). Persons who use a telecommunications device for the deaf (TDD) may call the Federal Information Relay Service (FIRS) at (800-877-8339).

SUPPLEMENTARY INFORMATION:

Background

On December 14, 2010, we published a proposed rule (75 FR 77801) to list the dunes sagebrush lizard, a lizard known from southeastern New Mexico and adjacent west Texas, as endangered under the Endangered Species Act of 1973, as amended (Act) (16 U.S.C. 1531 et seq.). For a description of previous Federal actions concerning the dunes sagebrush lizard (formerly known as the sand dunes lizard), please refer to the proposed rule. In addition to the original comment period associated with the publication of the proposed rule, we held two public meetings in April 2011 and reopened the comment period to accept additional public comments (76 FR 19304; April 7, 2011). On December 5, 2011, we provided notice of extension of our final determination pursuant to section 4(b)(6) of the Act and reopened the comment period a third time (76 FR 75858). That comment period closed on January 19, 2012.

Since that time, the Texas Comptroller's Office, in coordination with industry, landowners, and agricultural interests, has prepared and finalized a conservation agreement for the lizard, titled the “Texas Conservation Plan for Dunes Sagebrush Lizard (Sceloporus arenicolus)”. Additionally, the “Candidate Conservation Agreement for the Lesser Prairie-Chicken (Tympanuchus pallidicinctus) and Sand Dune Lizard (Sceloporus arenicolus) in New Mexico” was finalized in December 2008. The Service would like to consider the conservation measures in these agreements in its final listing determination. As such, we are reopening the comment period to allow the public an opportunity to provide comment on the likelihood of implementation and effectiveness of the conservation measures in the agreements pursuant to our Policy for Evaluation of Conservation Efforts When Making Listing Decisions (68 FR 15100; March 28, 2003).

Public Comments

We will accept written comments and information during this reopened comment period on our proposed listing for the dunes sagebrush lizard that was published in the Federal Register on December 14, 2010 (75 FR 77801). We will consider information and recommendations from all interested parties. We intend that any final action resulting from this proposal be as accurate as possible and based on the best available scientific and commercial data.

If you previously submitted comments or information on the proposed rule, please do not resubmit them. We have incorporated them into the public record, and we will fully consider them in the preparation of our final determination. Our final determination concerning this proposed listing will take into consideration all written comments and any additional information we received.

You may submit your comments and materials concerning the proposed rule by one of the methods listed in ADDRESSES. We request that you send comments only by the methods described in ADDRESSES.

If you submit a comment via http://www.regulations.gov, your entire comment—including any personal identifying information—will be posted on the Web site. We will post all hardcopy comments on http://www.regulations.gov as well. If you submit a hardcopy comment that includes personal identifying information, you may request at the top of your document that we withhold this information from public review. However, we cannot guarantee that we will be able to do so.

Comments and materials we receive, as well as supporting documentation we used in preparing the proposed rule, will be available for public inspection on http://www.regulations.gov at Docket No. FWS-R2-ES-2010-0041, or by appointment, during normal business hours, at the U.S. Fish and Wildlife Service, New Mexico Ecological Services Field Office (see FOR FURTHER INFORMATION CONTACT). You may obtain copies of the proposed rule on the Internet at http://www.regulations.gov at Docket No. FWS-R2-ES-2010-0041, or by mail from the New Mexico Ecological Services Field Office (see FOR FURTHER INFORMATION CONTACT).

Authority

The authority for this action is the Endangered Species Act of 1973, as amended (16 U.S.C. 1531 et seq.).

Dated: February 10, 2012.
Daniel M. Ashe,
Director, U.S. Fish and Wildlife Service.

[FR Doc. 2012-4348 Filed 2-23-12; 8:45 am]

BILLING CODE 4310-55-P